DEPARTMENT OF AGRICULTURE

Forest Service

Six Rivers National Forest, Mad River Ranger District, Ruth, CA; Kelsey Peak Timber Sale and Fuelbreak Project

AGENCY: Forest Service, USDA.

ACTION: Notice of intent to prepare an environmental impact statement.

SUMMARY: The Forest Service is proposing the Kelsey Peak Timber Sale and Fuelbreak Project to provide timber products to local economies, reduce tree densities, improve watershed conditions and provide defensible space to improve fire protection and human safety. The Kelsey Peak planning area encompasses approximately 19,245 acres; 18,858 acres are National Forest System (NFS) lands and 398 acres are in private ownership. The project would treat approximately 4,789 acres of NFS lands by harvesting timber through thinning on approximately 2,249 acres and create 2,540 acres of fuel corridors.

DATES: Comments concerning the scope of the analysis must be received by October 13, 2009. The Draft Environmental Impact Statement is expected March 2010 and the Final Environmental Impact Statement is expected June 2010.

ADDRESSES: Send written comments to Thomas Hudson, Mad River Ranger District, 741 State Highway 36, Bridgeville, CA 95526. Comments may also be sent via e-mail to comments-pacificsouthwest-six-rivers-mad-river@fs.fed.us, attention to the Kelsey Peak Project, or via facsimile to (707) 574-6273.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered; however, anonymous comments will not provide the respondent with standing to participate in subsequent administrative or judicial reviews.

FOR FURTHER INFORMATION CONTACT: Thomas Hudson; Mad River Ranger District, 741 State Highway 36, Bridgeville, CA 95526 or by telephone at (707) 574-6233.

Individuals who use telecommunication devices for the deaf (TDD) may call the Federal Information Relay Service (FIRS) at 1-800-877-8339 between 8 a.m. and 8 p.m., Eastern Time, Monday through Friday.

SUPPLEMENTARY INFORMATION: The proposed project would take place within the Upper Mad River watershed on NFS lands administered by the Mad River Ranger District in Trinity County, California. The legal location includes portions of the following areas: T. 20 S., R. 8 E.; T. 30 S., R. 8 E.; and T. 28 N., R. 12 W.; and T. 27 N., R. 12 W.

The Kelsey Peak Project is designed to contribute timber commodity outputs in support of the Six Rivers Forest National Forest Land and Resource Management Plan (LRMP). One of the goals of the LRMP is to provide a stable supply of outputs and services that contribute to local, regional, and national social and economic needs. The Six Rivers National Forest seeks to provide a sustainable, predictable, long-term timber supply for local economies.

Tree densities within many stands greatly exceed desired stocking levels. Overstocked stands can be unhealthy with low resistance to insect and disease outbreaks. Overstocked small young stands will take much longer to grow into larger mature trees, increasing the amount of time needed to balance size classes across the landscape.

The project area lies within the Mad River Watershed, which has been listed as water quality impaired. The primary sources of sediment are thought to be the current road conditions.

The project planning area occurs within portions of the wildland-urban interface for the communities of Ruth and Three Forks, CA. Numerous homes and several businesses contribute to the high economic value ranking in the area. Fuel hazards here are moderate, but fire risk is high due to the number of people in the area.

Sensitive wildlife and plant species and survey and manage botanical species are known to occur within the planning area.

Purpose and Need for Action

Given Forest goals, and environmental conditions within the planning area, the purpose and need for the proposed action is:

• Provide timber commodities that contribute towards the Forest's Allowable Sale Quantity as part of the Forest's obligation to sustain the local rural economy.

• Where stands are overstocked, reduce tree densities to increase stand vigor and resilience to fire and disease and increase growth rates that would lead to a more balanced age/size class distribution.

• Improve water quality within the watershed.

• Provide defensible space along strategic road corridors to improve fire protection and human safety for both the Forest and adjacent communities.

Within the context of meeting the purpose and need, there would be opportunities for fuelwood or biomass utilization associated with proposed activities.

Proposed Action

The proposed action is designed to meet the project's purpose and need while meeting the standards and guidelines of the LRMP. The Kelsey Peak Timber Sale and Fuelbreak Project would treat vegetation to meet the purpose and need.

1. Approximately 20 million board feet (MMBF) of timber would be harvested from approximately 2,249 acres within 98 treatment units. Harvesting would be accomplished by utilizing ground-based, skyline, and helicopter logging systems. Actions connected with commercial timber harvest include:

a. Treating harvest activity generated fuel;

b. Constructing approximately 1.9 miles of new temporary road, and re-opening/re-utilizing approximately 5.1 miles of existing non-system roads;

c. Constructing new landings and reutilization of existing landings;

d. Hauling of commercial timber products on County Road 501 and Forest Service System roads within the planning area;

e. Felling and removal, where appropriate, of hazard trees along haul routes; and

f. Decommissioning, maintaining, and reconstructing roads as needed.

2. Fuelbreaks or corridors would be strategically placed along 39 miles of road.

Responsible Official

The responsible official is the Forest Supervisor, Six Rivers National Forest.

Nature of Decision To Be Made

The responsible official will decide whether to implement the proposed action, no action or other alternatives considered under analysis. He will consider the comments, responses, disclosure of environmental consequences, and applicable laws, regulations, and policies in making the decision and stating the rationale in the Record of Decision.

Scoping Process

This Notice of Intent initiates the scoping process, which guides the development of the Environmental Impact Statement. Public scoping will include notices in the newspaper of record and mailings of the scoping package to interested and affected parties and posting of the project on the Six Rivers National Forest project planning web page and notice in the Quarterly Schedule of Proposed Actions.

It is important that reviewers provide their comments at such times and in such manner that they are useful to the agency's preparation of the Environmental Impact Statement. Therefore, comments should be provided prior to the close of the comment period and should clearly articulate the reviewer's concerns and contentions. The submission of timely and specific comments can affect a reviewer's ability to participate in subsequent administrative appeal or judicial review.

Dated: September 2, 2009.
Nancy J. Gibson,
Acting Forest Supervisor, Six Rivers National Forest.

[FR Doc. E9-21808 Filed 9-10-09; 8:45 am]

BILLING CODE 3410-11-P